DEPARTMENT OF COMMERCE

Bureau of Industry and Security

Sensors and Instrumentation Technical Advisory Committee

AGENCY: Bureau of Industry and Security, U.S. Department of Commerce.

ACTION: Notice of open meeting.

SUMMARY: The Sensors and Instrumentation Technical Advisory Committee (SITAC) advises and assists the Secretary of Commerce and other Federal officials on matters related to export control policies; the SITAC will meet to review and discuss these matters. The meeting will be open to the public.

DATES: The meeting will be held on April 29, 2025, from 12:30 p.m. to 1:30 p.m. eastern time (all times are eastern time). Individuals requiring special accommodations to access the session virtually should contact TAC@bis.doc.gov no later than 11:59 p.m. on April 22, 2025, so that appropriate arrangements can be made. Individuals interested in participating virtually should contact TAC@bis.doc.gov no later than 11:59 p.m. on April 27, 2025.

ADDRESSES: The meeting will only be accessible via teleconference.

FOR FURTHER INFORMATION CONTACT: Kevin Coyne, Committee Liaison Officer, Bureau of Industry and Security, U.S. Department of Commerce, TAC@bis.doc.gov, (202) 482-4933.

SUPPLEMENTARY INFORMATION:

Background

The Sensors and Instrumentation Technical Advisory Committee (SITAC) advises and assists the Secretary of Commerce (Secretary) and other Federal officials and agencies with respect to actions designed to carry out the policy set forth in section 1752 of the Export Control Reform Act. The purpose of the meeting is to have the SITAC members, U.S. Government representatives, and the public review working group reports, partake in open business discussions, and receive industry presentations.

Agenda

The meeting will include working group reports, open business discussions, and industry presentations.

Meeting Attendance

The meeting will only be accessible via teleconference. Registration in advance is required to receive the meeting invite for virtual attendance. Individuals interested in participating virtually should contact TAC@bis.doc.gov no later than 11:59 p.m. eastern time on April 27, 2025.

Special Accommodations

Individuals requiring special accommodations to access the meeting virtually should contact TAC@bis.doc.gov no later than 11:59 p.m. eastern time on April 22, 2025, so that appropriate arrangements can be made.

Public Participation

To the extent that time permits during the meeting, members of the public may present oral statements to the SITAC. The public may submit written statements at any time before or after the meeting. However, to facilitate distribution of materials to the SITAC members, the SITAC suggests that members of the public forward their materials prior to the meeting via email to TAC@bis.doc.gov. Material submitted by the public will be made public; therefore, submissions should not contain confidential information. Meeting materials from the meeting will be accessible via the Technical Advisory Committee (TAC) website at: https://tac.bis.doc.gov, within 30 days after the meeting.

Meeting Cancellation

If the meeting is cancelled, a cancellation notice will be posted on the TAC website at: https://tac.bis.doc.gov.

Kevin Coyne,
Committee Liaison Officer.

[FR Doc. 2025-06321 Filed 4-11-25; 8:45 am]

BILLING CODE 3510-JT-P